NUCLEAR REGULATORY COMMISSION

[ASLBP No. 03-806-01-CO (EA 02-124)]

Exelon Generation Company, LLC, Amergen Energy Company, LLC; Establishment of Atomic Safety and Licensing Board

In the matter of: Braidwood Station, Units 1 & 2/Docket Nos. 50-00456/457-CO; Byron Station, Units 1 & 2/Docket Nos. 50-00454/455-CO; Clinton Power Station/Docket No. 50-00461-CO; Dresden Nuclear Power Station, Units 1, 2, & 3/Docket Nos. 50-00010/237/249-CO; LaSalle County Station, Units 1 & 2/Docket Nos. 50-00373/374-CO; Limerick Generating Station, Units 1 & 2/Docket Nos. 50-00342/353-CO; Oyster Creek Nuclear Generating Station/Docket No. 50-00219-CO; Peach Bottom Atomic Power Station, Units 1, 2, & 3/Docket Nos. 50-00171/277/278-CO; Quad Cities Nuclear Power Station, Units 1 & 2/Docket Nos. 50-00254/265-CO; Three Mile Island, Unit 1/Docket No. 50-00289-CO; and Zion Nuclear Power Station, Units 1 & 2/Docket Nos. 50-00295/304-CO.

Pursuant to delegation by the Commission dated December 29, 1972, published in the Federal Register, 37 FR 28710 (1972), and Sections 2.105, 2.700, 2.702, 2.714, 2.714a, 2.717, 2.721, and 2.772(j) of the Commission's Regulations, all as amended, an Atomic Safety and Licensing Board is being established to preside over the following proceeding: Exelon Generation Company, LLC, and Amergen Energy Company, LLC, (Braidwood Station, Units 1 & 2, et al.).

This Board is being established pursuant to a November 4, 2002 petition for leave to intervene and request for a hearing submitted by Barry Quigley regarding an October 3, 2002 confirmatory order modifying licenses that provides, among other things, for corrective action in the form of counseling and training of personnel involved in violations of 10 CFR 50.7. The issuance of the order followed an investigation by NRC's Office of Investigations to ascertain whether an employee of the Byron Station was discriminated against for raising safety concerns. The October 3, 2002 order, effective immediately, was published in the Federal Register (67 FR 63169 (Oct. 10, 2002)).

The Board is comprised of the following administrative judges:

Alan S. Rosenthal, Chair, Atomic Safety and Licensing Board Panel, U.S. Nuclear Regulatory Commission, Washington, DC 20555-0001

Dr. Richard F. Cole, Atomic Safety and Licensing Board Panel, U.S. Nuclear Regulatory Commission, Washington, DC 20555-0001

Dr. Charles N. Kelber, Atomic Safety and Licensing Board Panel, U.S. Nuclear Regulatory Commission, Washington, DC 20555-0001

All correspondence, documents, and other materials shall be filed with the administrative judges in accordance with 10 CFR 2.701.

Issued at Rockville, Maryland, this 18th day of November 2002.
G. Paul Bollwerk, III,
Chief Administrative Judge, Atomic Safety and Licensing Board Panel.

[FR Doc. 02-29739 Filed 11-21-02; 8:45 am]

BILLING CODE 7590-01-P